NEIGHBORHOOD REINVESTMENT CORPORATION

Sunshine Act Meetings

TIME AND DATE: 2 p.m., Thursday, April 20, 2023.

PLACE: 1255 Union Street NE, Fifth Floor, Washington, DC 20002.

STATUS: Parts of this meeting will be open to the public. The rest of the meeting will be closed to the public.

MATTERS TO BE CONSIDERED: Regular Board of Directors meeting. The General Counsel of the Corporation has certified that in his opinion, one or more of the exemptions set forth in the Government in the Sunshine Act, 5 U.S.C. 552b (c)(2) and (4) permit closure of the following portion(s) of this meeting:

• Executive Session

Agenda

I. Call to Order

II. FY2022 External Audit Discussion with BDO Auditors

III. Sunshine Act Approval of Executive (Closed) Session

IV. Executive Session with BDO Auditors

V. Special Topic

VI. Executive Session: Report from CEO

VII. Executive Session: Report from CFO

VIII. Executive Session: General Counsel Report

IX. Executive Session: NeighborWorks Compass Update

X. Action Item Approval of Meeting Minutes

XI. Action Item Approval of FY2022 External Audit

XII. Action Item Cigna Special Delegation

XIII. Action Item NW Compass: Strategy and Contracting Authority

XIV. Discussion Item March 16 Audit Committee Report

XV. Discussion Item Report from CIO

XVI. Discussion Item IT Tech Support Contract—Request to Increase Contract Amount

XVII. Capital Corporation Update and Grant Request for June

XVIII. Discussion Item Investment Policy Review

XIX. Discussion Item Expanded Spending Authority for Large Events

XX. Management Program Background and Updates

XXI. Adjournment

PORTIONS OPEN TO THE PUBLIC: Everything except the Executive Session.

PORTIONS CLOSED TO THE PUBLIC: Executive Session.

CONTACT PERSON FOR MORE INFORMATION: Lakeyia Thompson, Special Assistant, (202) 524-9940; Lthompson@nw.org.

Lakeyia Thompson,
Special Assistant.

[FR Doc. 2023-07883 Filed 4-11-23; 11:15 am]

BILLING CODE 7570-02-P